DEPARTMENT OF THE INTERIOR

Bureau of Land Management

[OR-014-02-1652-HB; GP-2-300]

Emergency Closure of Public Lands; Klamath County, OR

AGENCY: Bureau of Land Management, Interior.

ACTION: Emergency Closure of the Willow Valley Road in Klamath County, Oregon.

SUMMARY: Notic is hereby given that the Willow Valley Road, (41-14E-13), at the Rock Creek Bridge, in T. 41 S., R. 15 E., Sec. 17, Willamette Meridan, Klamath County, Oregon is temporarily closed to vehicle operation from October 7, 2002 through November 29, 2002. The closure is made under the authority of 43 CFR 8364.1. The purpose of this emergency temporary closure is to protect persons from potential harm during bridge replacement.

Any person who fails to comply with the provisions of this closure order may be subject to the penalties provided in 43 CFR 8360.0.-7, which include a fine not to exceed $1,000 and/or imprisonment not to exceed 12 months, as well as the penalties provided under Oregon State law.

The public road temporarily closed to public use under this order will be posted with signs at points of public access.

DATES: This closure is effective from October 7, 2002 through November 29, 2002.

ADDRESSES: Copies of the closure order and map showing the location of the closed road is available for the Klamath Falls Resource Area Office, 2795 Anderson Avenue, Building 25, Klamath Falls, Oregon 97603.

FOR FURTHER INFORMATION CONTACT: Teresa A. Raml, Field Manager, Klamath Falls Resource Area Office at (541) 883-6916.

Dated: July 12, 2002.
Teresa A. Rami,
Field Manager, Klamath Falls Resource Area.

[FR Doc. 02-25660 Filed 10-04-02; 10:58 am]

BILLING CODE 4310-33-M